DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Baldwin (FEMA Docket No.: B-1211) | City of Orange Beach (11-04-4328P) | June 22, 2011; June 29, 2011; The Islander | The Honorable Tony Kennon, Mayor, City of Orange Beach, 4099 Orange Beach Boulevard, Orange Beach, AL 36561 | June 14, 2011 | 015011
Madison (FEMA Docket No.: B-1211) | City of Huntsville (10-04-7862P) | June 22, 2011; June 29, 2011; The Huntsville Times | The Honorable Tommy Battle, Mayor, City of Huntsville, 308 Fountain Circle, 8th Floor, Huntsville, AL 35801 | October 27, 2011 | 010153
Arizona:
Maricopa (FEMA Docket No.: B-1206) | City of Peoria (11-09-0647P) | June 2, 2011; June 9, 2011; The Arizona Business Gazette | The Honorable Bob Barrett, Mayor, City of Peoria, 8401 West Monroe Street, Peoria, AZ 85345 | October 7, 2011 | 040050
Maricopa (FEMA Docket No.: B-1206) | Unincorporated areas of Maricopa County (11-09-0647P) | June 2, 2011; June 9, 2011; The Arizona Business Gazette | The Honorable Andrew Kunasek, Chairman, Maricopa County Board of Supervisors, 301 West Jefferson Street, 10th Floor, Phoenix, AZ 85003 | October 7, 2011 | 040037
Navajo (FEMA Docket No.: B-1206) | Town of Snowflake (10-09-1783P) | May 27, 2011; June 3, 2011; The White Mountain Independent | The Honorable Kelly Willis, Mayor, Town of Snowflake, 81 West 1st South, Snowflake, AZ 85937 | October 3, 2011 | 040070
California:
Shasta (FEMA Docket No.: B-1206) | Unincorporated areas of Shasta County (10-09-3227P) | June 1, 2011; June 8, 2011; The Red Bluff Daily News | The Honorable Les Baugh, Chairman, Shasta County Board of Supervisors, 1450 Court Street, Suite 308B, Redding, CA 96001 | October 6, 2011 | 060358
Tehama (FEMA Docket No.: B-1206) | Unincorporated areas of Tehama County (10-09-3227P) | June 1, 2011; June 8, 2011; The Anderson Valley Post | The Honorable Gregg Avilla, Chairman, Tehama County Board of Supervisors, 727 Oak Street, Red Bluff, CA 96080 | October 6, 2011 | 065064
Colorado: Douglas (FEMA Docket No.: B-1219) | Unincorporated areas of Douglas County (11-08-0044P) | July 7, 2011; July 14, 2011; The Douglas County News-Press | The Honorable Jill Repella, Chair, Douglas County Board of Commissioners, 100 3rd Street, Castle Rock, CO 80104 | June 30, 2011 | 080049
Kentucky: Fayette (FEMA Docket No.: B-1211) | Lexington-Fayette Urban County Government (11-04-0368P) | June 22, 2011; June 29, 2011; The Lexington Herald-Leader | The Honorable Jim Gray, Mayor, Lexington-Fayette Urban County Government, 200 East Main Street, Lexington, KY 40507 | October 27, 2011 | 210067
Nevada: Clark (FEMA Docket No.: B-1211) | City of Las Vegas (11-09-1593P) | June 23, 2011; June 30, 2011; The Las Vegas Review-Journal | The Honorable Oscar B. Goodman, Mayor, City of Las Vegas, 400 Stewart Avenue, Las Vegas, NV 89101 | June 16, 2011 | 325276
North Carolina:
Alamance (FEMA Docket No.: B-1206) | City of Burlington (10-04-4375P) | May 6, 2011; May 13, 2011; The Times-News | The Honorable Ronnie K. Wall, Mayor, City of Burlington, 425 South Lexington Avenue, Burlington, NC 27216 | September 12, 2011 | 370002
Alamance (FEMA Docket No.: B-1206) | Town of Elon (10-04-4375P) | May 6, 2011; May 13, 2011; The Times-News | The Honorable Jerry R. Tolley, Mayor, Town of Elon, 104 South Williamson Avenue, Elon, NC 27244 | September 12, 2011 | 370411
Buncombe (FEMA Docket No.: B-1206) | Unincorporated areas of Buncombe County (10-04-2274P) | May 13, 2011; May 20, 2011; The Asheville Citizen-Times | Ms. Wanda Greene, Buncombe County Manager, 205 College Street, Suite 300, Asheville, NC 28801 | September 19, 2011 | 370031
Davidson (FEMA Docket No.: B-1206) | Unincorporated areas of Davidson County (10-04-3473P) | May 6, 2011; May 13, 2011; The High Point Enterprise | Mr. Robert Hyatt Davidson, County Manager, 913 Greensboro Street, Lexington, NC 27292 | September 12, 2011 | 370307
Guilford (FEMA Docket No.: B-1206) | City of High Point (10-04-3473P) | May 6, 2011; May 13, 2011; The High Point Enterprise | The Honorable Rebecca R. Smothers, Mayor, City of High Point, 211 South Hamilton Street, High Point, NC 27261 | September 12, 2011 | 370113
Madison (FEMA Docket No.: B-1206) | Unincorporated areas of Madison County (10-04-8485P) | March 30, 2011; April 6, 2011; The News-Record & Sentinel | Mr. Steve Garrison, Madison County Manager, 2 North Main Street, Marshall, NC 28753 | August 4, 2011 | 370152
Union (FEMA Docket No.: B-1209) | Unincorporated areas of Union County (11-04-1541P) | June 2, 2011; June 9, 2011; The Charlotte Observer and The Enquirer-Journal | Ms. Cynthia Coto, Union County Manager, Union County Government Center, 500 North Main Street, Room 918, Monroe, NC 28112 | October 7, 2011 | 370234
Union (FEMA Docket No.: B-1209) | Village of Marvin (11-04-1541P) | June 2, 2011; June 9, 2011; The Charlotte Observer and The Enquirer-Journal | The Honorable Nick Dispenziere, Mayor, Village of Marvin, 10004 New Town Road, Marvin, NC 28173 | October 7, 2011 | 370514

(Catalog of Federal Domestic Assistance No. 97.022, “Flood Insurance.”)

Dated: December 20, 2011.
Sandra K. Knight,
Deputy Associate Administrator for Mitigation, Department of Homeland Security, Federal Emergency Management Agency.

[FR Doc. 2011-33772 Filed 1-4-12; 8:45 am]

BILLING CODE 9110-12-P